DEPARTMENT OF THE INTERIOR

Bureau of Land Management

[CACA 49834; L51010000.ER0000 LLCAD09000 LVRWB09B3160]

Notice of Intent To Prepare a Joint Environmental Impact Statement and Final Environmental Impact Report for the Southern California Edison, Eldorado-Ivanpah Transmission Project; California, Nevada

Agency: Bureau of Land Management, Interior.

ACTION: Notice of Intent.

SUMMARY: In compliance with the National Environmental Policy Act of 1969 (NEPA), as amended, and the California Environmental Quality Act of 1970 (CEQA), the Department of the Interior, Bureau of Land Management (BLM), together with the California Public Utilities Commission (CPUC), intend to prepare an Environmental Impact Statement/Environmental Impact Report (EIS/EIR) on the impacts of the Eldorado-Ivanpah Transmission Project (EITP).

DATES: This notice initiates the public participation and scoping processes for the EIS. A public scoping period of at least 30 days is hereby announced, and at least one public meeting has been announced through the local news media, newspapers, and BLM's Web page (http://www.blm.gov/ca/st/en/fo/needles.html). During the public scoping period, the BLM solicits public comment on issues, concerns, and opportunities that should be considered in the analysis of the proposed action. Comments on issues, potential impacts, or suggestions for additional alternatives may be submitted in writing to the address listed below. In order to be included in the Draft EIS all comments must be received prior to the close of the scoping period or 15 days after the last public meeting, whichever is later. Additional opportunities for public participation and formal comment will occur when the Draft EIS/Draft EIR is issued.

ADDRESSES: Comments and other correspondence should be sent to the BLM Needles Office, attention George R. Meckfessel, Planning and Environmental Coordinator, Needles Field Office, 1303 South U.S. Highway 95, Needles, California, 92363-4228, or by fax at (760) 326-7099 or by e-mail at mailto:ca690@ca.blm.gov attention EITP. Documents pertinent to this proposal, including comments of respondents, will be available for public review at the BLM Needles Field Office during regular business hours of 7:30 a.m. to 4 p.m., Monday through Friday, excluding holidays.

FOR FURTHER INFORMATION CONTACT: For further information and/or to have your name added to our mailing list, contact Tom Hurshman, Project Manager, 2465 South Townsend Ave., Montrose, CO 81401, Phone (970) 240-5345, fax (970) 240-5368, or e-mail Tom_Hurshman@blm.gov.

SUPPLEMENTARY INFORMATION: The applicant, Southern California Edison, has requested a right-of-way (ROW) authorization to construct a proposed electric transmission line and associated facilities on public lands located in San Bernardino County, California, and Clark County, Nevada. The EIS/EIR will analyze the site-specific impacts to the environment resulting from the proposed project. The CPUC is the lead State of California agency for the licensing of electric transmission facilities and, in the present case, for compliance with the requirements of CEQA. BLM will utilize and coordinate the NEPA commenting process to satisfy the public involvement process for Section 106 of the National Historic Preservation Act (NHPA) (16 U.S.C. 470f) as provided for in 36 CFR 800.2(d)(3).

Southern California Edison has applied for a ROW authorization to upgrade and replace an existing 115 kV electric transmission line on public lands with a new double circuit 220 kV electric transmission line. The proposed transmission line would handle projected electricity produced from several renewable energy project proposals in and around the Ivanpah Valley, including the Ivanpah Solar Energy Generation System planned by Solar Partners, LLC. The proposed electric transmission line and a new substation would be constructed within an existing designated utility corridor. The public lands are managed by BLM in accordance with the California Desert Conservation Area (CDCA) Plan and the Las Vegas Field Office Resource Management Plan (RMP). The segment of electric transmission line to be replaced is approximately 36 miles long and originates at the existing Eldorado Substation in T. 25 S., R. 62 E., Sec. 1, Mount Diablo PM, and terminates at the proposed Ivanpah Substation in T. 16 N., R. 14 E., Sec. 4, San Bernardino PM.

In addition to the electric transmission line, the applicant requires telecommunications facilities to operate the substation. Primary telecommunications would be provided with an optical overhead ground wire constructed on the proposed electric transmission line, and redundant telecommunications would be established by construction of an independent fiber optics cable that will be located on other existing electric transmission towers owned by the applicant.

BLM will consider approval of the proposed Project in a manner that avoids or reduces impacts to public lands. This action is consistent with Federal law and BLM's policy allowing the use of public lands for the generation and transmission of electrical energy from renewable energy projects pursuant to Title V of the Federal Land Policy and Management Act (FLPMA) and Section 211 of the Energy Policy Act of 2005 (119 Stat. 594, 660). BLM has an established process to respond to applications for ROW's for major utilities while protecting the environment. The CDCA Plan, the Las Vegas Field Office RMP, and the FLPMA recognize that public lands will be managed for multiple uses and emphasize the use of ROW corridors.

The EIS/EIR will describe and analyze the project as proposed and will include: (1) Measures to avoid, minimize, or mitigate impacts on the environment; (2) alternative routes and locations for facilities; and (3) the “No Action” alternative (no upgrades to the existing electric transmission line). Through public scoping, BLM expects to identify various issues, potential impacts, and mitigation measures. As proposed, the electric transmission line has been sited to take advantage of existing designated ROW corridors, which are areas identified by BLM land use plans as suitable for ROW development.

BLM has identified a potential list of issues that will need to be addressed in this analysis including but not limited to: Social and economic impacts, including impacts to the public from traffic; ground and surface water quantity and quality impacts; plant and animal species including special status species; cultural resources; and visual resource impacts. If approved, the electric transmission line project on public lands would be authorized in accordance with the FLPMA and federal regulations at Title 43 Code of Federal Regulations Part 2800.

You may submit comments in writing at the public scoping meeting, by mail, or via e-mail (see ADDRESSES section above). Before including your address, phone number, email address, or other personal identifying information in your comment, you should be aware that your entire comment—including your personal identifying information—may be made publicly available at any time. While you can ask us in your comment to withhold your personal identifying information from public review, we cannot guarantee that we will be able to do so.

Tom Zale,
Deputy State Director, Natural Resources (acting), California State Office.

[FR Doc. E9-17784 Filed 7-24-09; 8:45 am]

BILLING CODE 4310-40-P